DEPARTMENT OF ENERGY

Federal Energy Regulatory Commission

Combined Notice of Filings #2

Take notice that the Commission received the following electric corporate filings:

Docket Numbers: EC14-139-000.

Applicants: Spring Canyon Energy LLC, Spring Canyon Energy II LLC, Spring Canyon Energy III LLC.

Description: Application for Authorization Under Section 203 of the Federal Power Act and Request for Waivers and Expedited Action of Spring Canyon Energy LLC, et. al.

Filed Date: 9/10/14.

Accession Number: 20140910-5054.

Comments Due: 5 p.m. ET 10/1/14.

Take notice that the Commission received the following exempt wholesale generator filings:

Docket Numbers: EG14-102-000.

Applicants: Hoopeston Wind, LLC.

Description: Self-Certification of EG or FC of Hoopeston Wind, LL.

Filed Date: 9/10/14.

Accession Number: 20140910-5167.

Comments Due: 5 p.m. ET 10/1/14.

Take notice that the Commission received the following electric rate filings:

Docket Numbers: ER14-2176-001.

Applicants: Midcontinent Independent System Operator, Inc.

Description: Compliance filing per 35: 2014-09-10_SA 6500 Escanaba SSR Compliance Filing to be effective 6/15/2014.

Filed Date: 9/10/14.

Accession Number: 20140910-5153.

Comments Due: 5 p.m. ET 10/1/14.

Docket Numbers: ER14-2180-001.

Applicants: Midcontinent Independent System Operator, Inc.

Description: Compliance filing per 35: 2014-09-10 Schedule 43 Escanaba Compliance Filing to be effective 6/15/2014.

Filed Date: 9/10/14.

Accession Number: 20140910-5155.

Comments Due: 5 p.m. ET 10/1/14.

Docket Numbers: ER14-2432-001.

Applicants: Southern California Edison Company.

Description: Tariff Amendment per 35.17(b): Amended LGIA with SP Antelope DSR LLC to be effective 7/16/2014.

Filed Date: 9/10/14.

Accession Number: 20140910-5146.

Comments Due: 5 p.m. ET 10/1/14.

Docket Numbers: ER14-2820-001.

Applicants: Spring Canyon Energy II LLC.

Description: Tariff Amendment per 35.17(b): Supplement to Market-Based Rate Application to be effective 9/30/2014.

Filed Date: 9/10/14.

Accession Number: 20140910-5058.

Comments Due: 5 p.m. ET 10/1/14.

Docket Numbers: ER14-2822-000.

Applicants: PJM Interconnection, LLC.

Description: Tariff Withdrawal per 35.15: Notice of Cancellation of Original Service Agreement No. 3529; Queue No. Y2-037 to be effective 9/10/2014.

Filed Date: 9/10/14.

Accession Number: 20140910-5064.

Comments Due: 5 p.m. ET 10/1/14.

Docket Numbers: ER14-2823-000.

Applicants: Double C Generation Limited Partnership.

Description: § 205(d) rate filing per 35.13(a)(2)(iii): Notice of Succession to be effective 12/8/2011.

Filed Date: 9/10/14.

Accession Number: 20140910-5162.

Comments Due: 5 p.m. ET 10/1/14.

Take notice that the Commission received the following electric securities filings:

Docket Numbers: ES14-52-000.

Applicants: Consolidated Edison Company of New York, Inc.

Description: Application of Consolidated Edison Company of New York, Inc.

Filed Date: 9/10/14.

Accession Number: 20140910-5053.

Comments Due: 5 p.m. ET 10/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2014.
Nathaniel J. Davis, Sr.,
Deputy Secretary.

[FR Doc. 2014-22180 Filed 9-16-14; 8:45 am]

BILLING CODE 6717-01-P